DEPARTMENT OF ENERGY

Federal Energy Regulatory Commission

Combined Notice of Filings #1

Take notice that the Commission received the following electric rate filings:

Docket Numbers: ER11-4019-000.

Applicants: Midwest Independent Transmission System Operator, Inc., International Transmission Company.

Description: International Transmission Company submits tariff filing per 35.19a(b): ITC-Harvest E&P Refund Report to be effective N/A.

Filed Date: 10/11/2011.

Accession Number: 20111011-5115.

Comment Date: 5 p.m. Eastern Time on Tuesday, November 01, 2011.

Docket Numbers: ER11-4119-000.

Applicants: Michigan Electric Transmission Company, LLC.

Description: Michigan Electric Transmission Company, LLC submits tariff filing per 35.19a(b): Filing of Refund Report to be effective N/A.

Filed Date: 10/13/2011.

Accession Number: 20111013-5077.

Comment Date: 5 p.m. Eastern Time on Thursday, November 03, 2011.

Docket Numbers: ER11-4438-001.

Applicants: San Diego Gas & Electric Company.

Description: San Diego Gas & Electric Company submits tariff filing per 35.17(b): Errata to SDG&E and Cogentrix Energy E&P Agreement to be effective 10/17/2011.

Filed Date: 10/14/2011.

Accession Number: 20111014-5140.

Comment Date: 5 p.m. Eastern Time on Friday, November 04, 2011.

Docket Numbers: ER12-91-000.

Applicants: Duke Energy Kentucky, Inc., PJM Interconnection, LLC, Duke Energy Ohio, Inc.

Description: Duke Energy Kentucky, Inc. submits tariff filing per 35.13(a)(2)(iii: Duke submits revisions to the PJM OATT, OA, RAA and TOA re the DEOK Integration to be effective 1/1/2012.

Filed Date: 10/14/2011.

Accession Number: 20111014-5138.

Comment Date: 5 p.m. Eastern Time on Friday, November 04, 2011.

Docket Numbers: ER12-92-000.

Applicants: Duke Energy Kentucky, Inc., PJM Interconnection, LLC, Duke Energy Ohio, Inc.

Description: Duke Energy Kentucky, Inc. submits tariff filing per 35.13(a)(2)(iii: Duke submits revisions to the PJM OATT, OA, RAA and TOA re the DEOK Integration to be effective 1/1/2012.

Filed Date: 10/14/2011.

Accession Number: 20111014-5139.

Comment Date: 5 p.m. Eastern Time on Friday, November 04, 2011.

Docket Numbers: ER12-93-000.

Applicants: Commonwealth Edison Company.

Description: Commonwealth Edison Co. submits Notices of Cancellation.

Filed Date: 10/14/2011.

Accession Number: 20111014-5149.

Comment Date: 5 p.m. Eastern Time on Friday, November 04, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2011.
Nathaniel J. Davis, Sr.,
Deputy Secretary.

[FR Doc. 2011-27383 Filed 10-21-11; 8:45 am]

BILLING CODE 6717-01-P